ENVIRONMENTAL PROTECTION AGENCY

[FRL-6852-9]

Board of Scientific Counselors Executive Committee Meeting—Closed

AGENCY: Environmental Protection Agency (EPA).

ACTION: Notice of meeting.

SUMMARY: The Office of Research and Development's Board of Scientific Counselors (BOSC) will have a teleconference meeting on September 13, 2000. Pursuant to section 10(d) of the Federal Advisory Committee Act (FACA) and 5 U.S.C. App. 2, and section (c)(6) of the Government in the Sunshine Act, 5 U.S.C. 552b(c)(6), EPA has determined that the meeting will be closed to the public. The purpose of the meeting is to recommend new Board members to the Assistant Administrator for Research and Development to serve on the BOSC. In making these decisions, the members need to have full and frank discussions. Such personnel issues, where disclosure would constitute an unwarranted invasion personnel privacy, are protected from disclosure by exemption 2 and 6 of section 552(b)(c) of the U.S.C. In accordance with the provisions of the Federal Advisory Committee Act, minutes of the meeting will be kept for Agency and Congressional review.

FOR FURTHER INFORMATION CONTACT: Ms. Shirley R. Hamilton, Designated Federal Officer, U.S. Environmental Protection Agency, Office of Research and Development, NCER (MC 8701R), 1200 Pennsylvania Avenue, NW, Washington, DC 20460, telephone: (202) 564-6853 or e-mail at: hamilton.shirley@epa.gov.

Dated: August 11, 2000.
Carol M. Browner,
Administrator.

[FR Doc. 00-20968 Filed 8-16-00; 8:45 am]

BILLING CODE 6560-50-M